FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicant

Anchor Advantage, LLC, 15 West Cranberry Lane, Greenville, SC 29615. Officers: Julie A. Farmer, Chief Logistics Officer (Qualifying Individual); Dee Wood Kivett, C.O.O.

Non-Vessel Operating Common Carrier and Ocean Freight Forwarder Transportation Intermediary Applicants

A.J. Worldwide Sevices Inc., 28 West 36th Street, New York, NY 10018. Officers: Shahryar, Haq, Vice President (Qualifying Individual); Vivek Vellore, President.

Joseph Smith Customs House Broker Inc., 210 E. Sunrise Hwy, Ste. 301, Valley Stream, NY 11581. Officers: Daniel Smith, Vice President (Qualifying Individual); Joseph Smith, President.

LT Shipping Inc., 8339 N.W. 66th Street, Miami, FL 33166. Officers: Santiago Lostorto, President (Qualifying Individual); Eduardo G. Gardell, Vice President.

Global Express Consolidators, Inc., 2775 W. Okeechobee Road, #146, Hialeah, FL 33010. Officers: Yusniel Rodriguez, President (Qualifying Individual); Loris Gutierrez, Corporate Secretary.

Ocean Freight Forwarder—Ocean Transportation Intermediary Applicants

ANMI Logistic Group, Inc., 8534 NW., 66 Street, Miami, FL 33166. Officers: Laura B. Bezrutschko, President (Qualifying Individual); Alejandro M. Arias, Secretary.

Worldwide Company LLC, 10616 Sawdust Circle, Rockville, MD 20850. Officer: Chih Min Hu, President (Qualifying Individual).

Newport Air Express Inc., 145-54A, 156th Street, Jamaica, NY 11434. Officers: Jerry Lo, Vice President (Qualifying Individual); Henry Wong, Managing Director.

Dated: April 4, 2008.
Karen V. Gregory,
Assistant Secretary.

[FR Doc. E8-7466 Filed 4-8-08; 8:45 am]

BILLING CODE 6730-01-P